DEPARTMENT OF TRANSPORTATION

Federal Aviation Administration

14 CFR Part 71

[Airspace Docket No. 98-ANM-11]

RIN 2120-AA66

Proposed Alteration of Federal Airways; CO

AGENCY: Federal Aviation Administration (FAA), DOT.

ACTION: Proposed rule; withdrawal.

SUMMARY: This action withdraws the notice of proposed rulemaking (NPRM) published in the Federal Register on October 5, 1998. The FAA proposed to realign Federal airways in the State of Colorado. The FAA has determined that withdrawal of the proposed rule is warranted because the existing air traffic control (ATC) operational procedures are suitable.

DATES: The proposed rule is withdrawn on February 23, 2000.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION: On October 5, 1998, an NPRM was published in the Federal Register proposing to amend 14 CFR part 71 to modify Federal airways in Colorado (63 FR 53325). Interested parties were invited to participate in the rulemaking process by submitting written data, views, or arguments regarding the proposal. No comments were received on the proposal.

List of Subjects in 14 CFR part 71

Airspace, Incorporation by reference, Navigation (air).

The Withdrawal

In consideration of the foregoing, the Notice of Proposed Rulemaking, Airspace Docket No. 98-ANM-11, as published in the Federal Register on October 5, 1998 (63 FR 53325), is hereby withdrawn.

Authority: 49 U.S.C. 106(g), 40103, 40113, 40120; E.O. 10854; 24 FR 9565, 3 CFR, 1959-1963 Comp., p. 389.

Issued in Washington, DC, on February 16, 2000.
Reginald C. Matthews,
Manager, Airspace and Rules Division.

[FR Doc. 00-4225 Filed 2-22-00; 8:45 am]

BILLING CODE 4910-13-U